DEPARTMENT OF ENERGY

Federal Energy Regulatory Commission

[Project No. 1940-000 Wisconsin; Project No. 1966-000 Wisconsin]

Wisconsin Public Service Corporation; Notice of Environmental Site Review

In anticipation of the filing of Notices of Intent (NOI) and Pre-Application Documents for the Grandfather Falls Hydroelectric Project No. 1966 and Tomahawk Hydroelectric Project No. 1940 owned and operated by Wisconsin Public Service Corporation and located on the Wisconsin River in Lincoln County, Wisconsin, the Federal Energy Regulatory Commission (Commission) staff will be hosting environmental site reviews during the third week of October 2012.

The environmental site reviews are being held to provide Commission staff and all stakeholders interested in the projects' pending relicensing proceedings, an opportunity to view the projects' facilities and surrounding areas.

Under the Commission's Integrated Licensing Process, Commission staff conducts its National Environmental Policy Act (NEPA) scoping meetings within 90 days of the filing of an applicant's Notice of Intent. An environmental site review is typically held in conjunction with the scoping meetings. However, in this instance, access to some project facilities and viewing of areas with native vegetation may be limited by winter weather during the latter part of 2012 when scoping for the projects is currently anticipated. For this reason, Commission staff has chosen to conduct the environmental site reviews in October before the onset of winter and when natural vegetation is still apparent. Therefore, Commission staff will not conduct any environmental site reviews at the time of the scoping meetings. The Commission staff encourages all interested parties to participate in the October environmental site reviews to facilitate productive scoping meetings tentatively anticipated for later this year. Details of the project-specific environmental site reviews follow.

Tomahawk Hydroelectric Project No. 1940

• Tour of Tomahawk Project Facilities

Date and Time: October 16, 2012 at 9 a.m.

Location: Tomahawk Project Powerhouse, W6080 Pride Ponds Road, Tomahawk, WI 54487.

• Tomahawk Project Reservoir Tour

Date and Time: October 16, 2012 at 1 p.m.

Location: Tomahawk Project Powerhouse, W6080 Pride Ponds Road, Tomahawk, WI 54487.

Grandfather Falls Hydroelectric Project No. 1966

• Tour of Grandfather Falls Project Facilities

Date and Time: October 17, 2012 at 9 a.m.

Location: Grandfather Falls Project Powerhouse, N5059 Highway 107, Irma, WI 54442.

• Tour of Grandfather Falls Bypassed Reach of the Wisconsin River

Date and Time: October 17, 2012 at 1 p.m.

Location: Grandfather Falls Project Powerhouse, N5059 Highway 107, Irma, WI 54442.

If you plan to attend the environmental site reviews, please R.S.V.P. to Gregory W. Egtvedt, Wisconsin Public Service Corporation, by October 10, 2012, and identify the number of individuals in your group. Mr. Egtvedt can be reached at: Mr. Gregory W. Egtvedt, Manager Environmental Assets & Licensing, Integrys Business Support, LLC, 700 North Adams Street, P.O. Box 19001, Green Bay, WI 54307-9001, Phone: (920) 433-5713; Cell (920) 655-3785, Email: GWEgtvedt@integrysgroup.com.

If you need further logistical information or directions for participating in the environmental site reviews, please contact Mr. Egtvedt. All other questions regarding the environmental site reviews or the Commission's Integrated Licensing Process may be directed to Lee Emery of the Commission's staff at (202) 502-8379 or via email at lee.emery@ferc.gov.

Dated: September 25, 2012.
Kimberly D. Bose,
Secretary.

[FR Doc. 2012-24105 Filed 9-28-12; 8:45 am]

BILLING CODE 6717-01-P